ENVIRONMENTAL PROTECTION AGENCY

40 CFR Part 52

[EPA-R03-OAR-2006-0280; FRL-8446-8]

Approval and Promulgation of Air Quality Implementation Plans; Pennsylvania; VOC and NOX RACT Determinations for Seven Individual Sources; Partial Withdrawal of Proposed Rule

AGENCY: Environmental Protection Agency (EPA).

ACTION: Partial withdrawal of proposed rule.

SUMMARY: EPA is withdrawing two individual sources that were included as part of a proposed rule to approve Pennsylvania's State Implementation Plan (SIP) pertaining to source-specific volatile organic compounds (VOC) and nitrogen oxides (NOX) RACT determinations for seven individual sources located in Pennsylvania. The proposed rule was published on May 4, 2006 (71 FR 26297). Subsequently, EPA is withdrawing the two provisions of that proposed rule.

DATES: The proposed additions of the entries for Merck & Company, Inc. and The Frog, Switch & Manufacturing Company published at 71 FR 26297 are withdrawn as of July 27, 2007.

FOR FURTHER INFORMATION CONTACT: Rose Quinto at (215) 814-2182, or by e-mail at quinto.rose@epa.gov.

SUPPLEMENTARY INFORMATION: See the information provided in the proposed rule, entitled, “Approval and Promulgation of Air Quality Implementation Plans; Pennsylvania; VOC and NOX RACT Determinations for Seven Individual Sources,” located in the Proposed Rules section of the May 4, 2006 Federal Register (71 FR 26297). EPA is withdrawing only the provisions for two individual sources, namely, Merck & Co., Inc., Northumberland County, Pennsylvania; and The Frog, Switch & Manufacturing Co., Cumberland County, Pennsylvania. The other actions in the May 4, 2006 Federal Register are not affected.

List of Subjects in 40 CFR Part 52

Environmental protection, Nitrogen dioxide, Ozone, Reporting and recordkeeping requirements, Volatile organic compounds.

Dated: July 18, 2007.
James W. Newsom,
Acting Regional Administrator, Region III.

[FR Doc. E7-14599 Filed 7-26-07; 8:45 am]

BILLING CODE 6560-50-P